DEPARTMENT OF TRANSPORTATION

Federal Aviation Administration

14 CFR Part 39

[Docket No. FAA-2011-0562; Directorate Identifier 2011-CE-015-AD]

RIN 2120-AA64

Airworthiness Directives; Cessna Aircraft Company 310, 320, 340, 401, 402, 411, 414, and 421 Airplanes

AGENCY: Federal Aviation Administration (FAA), DOT.

ACTION: Notice of proposed rulemaking (NPRM).

SUMMARY: We propose to adopt a new airworthiness directive (AD) for the products listed above. This proposed AD would require you to install a placard that prohibits flight into known icing conditions and install a placard that increases published speed on approach 17 mph (15 knots) in case of an inadvertent encounter with icing. This proposed AD was prompted by an investigation of recent and historical icing-related accidents and incidents for the products listed above. We are proposing this AD to prohibit flight into known icing conditions as well as increase the approach speed in case of an inadvertent encounter with icing. This condition, if not corrected, could result in unusual flight characteristics that could lead to loss of control after flight into known icing conditions or an inadvertent encounter with icing conditions. Based on the data, an example of the unusual flight characteristics seen in many of the accidents is high sink speeds that resulted in a hard landing.

DATES: We must receive comments on this proposed AD by July 18, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact Cessna Aircraft Company, Product Support, P.O. Box 7706, Wichita, KS 67277; telephone: (316) 517-6000; fax: (316) 517-8500; Internet: http://www.cessna.com. You may review copies of the referenced service information at the FAA, Small Airplane Directorate, 901 Locust, Kansas City, MO 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Jason Brys, Flight Test Engineer, FAA, Wichita Aircraft Certification Office, 1801 S. Airport Road, Room 100, Wichita, Kansas 67209; telephone: (316) 946-4100; fax: (316) 946-4107.

SUPPLEMENTARY INFORMATION:

Comments Invited

We invite you to send any written relevant data, views, or arguments about this proposal. Send your comments to an address listed under the ADDRESSES section. Include “Docket No. FAA-2011-0562; Directorate Identifier 2011-CE-015-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We are proposing this AD as a result of an investigation of 51 recent and historical icing-related accidents and incidents over the last 30 years that resulted in 36 fatalities for aircraft listed in Cessna Aircraft Company (Cessna) Service Bulletin MEB97-4. The non-fatal events usually resulted in injuries and substantial aircraft damage. The National Transportation Safety Board dockets showed for two non-fatal landing events airplane stall with no activation of the stall warning system.

Our investigation concluded that these aircraft, even if equipped with pneumatic deicing boots, are not approved for flight into known icing and will accrete critical amounts of ice on the protected and unprotected areas. Additionally, data suggest potentially large increases in stall speeds with no stall warning.

The differences in the icing protection systems for the aircraft identified in this proposed AD differ greatly from later models that were approved for icing conditions. Some of these differences could include electric windshield (instead of alcohol), de-ice propeller (some might have had boots without the de-ice propeller), de-ice boots on entire span of wing as well as a different style de-ice boots, different pitot probe and static ports, and some models also added a de-ice boot to the vertical tail.

These airplanes' certification basis did not include Amendment 7 of CAR 3 Dated May 15, 1956, which required an applicant to provide to the pilot the types of operations and meteorological conditions (e.g. icing conditions) to which the operation of the airplane is limited by the equipment installed (CAR 3 § 3.772). Therefore, the pilot may not realize that, even with de-ice boots or other similar equipment installed, the airplane is not certificated for flight into known icing conditions. To address this condition and based on the accident history, there is a need to add a limitation to prohibit flight into known icing conditions due to the limitations of the installed equipment.

This condition, if not corrected, could result in unusual flight characteristics that could lead to loss of control after flight into known icing conditions or an inadvertent encounter with icing conditions. Based on the data, an example of the unusual flight characteristics seen in many of the accidents is high sink speeds that resulted in a hard landing.

Relevant Service Information

We reviewed Cessna Service Bulletin MEB97-4, dated March 24, 1997. The service information describes procedures for providing a placard to inform the pilot that flight in known icing conditions is prohibited with the aircraft identified in the service information.

FAA's Determination

We are proposing this AD because we evaluated all the relevant information and determined the unsafe condition described previously is likely to exist or develop in other products of these same type designs.

Proposed AD Requirements

This proposed AD would require you to install a placard that prohibits flight into known icing conditions and install a placard that increases published speed on approach 17 mph (15 knots) in case of an inadvertent encounter with icing.

Differences Between the Proposed AD and the Service Information

The service information provides instructions on obtaining a placard from Cessna that prohibits flight into known icing conditions and that the airplane owner or a service facility may install the placard. This proposed AD requires fabrication and installation of an additional placard that increases the published speed on approach 17 mph (15 knots). This proposed AD also requires that a properly certificated aircraft mechanic must fabricate the additional placard and install both of these placards. The airplane owner or pilot is not allowed to fabricate and install the placards unless they are also a properly certificated aircraft mechanic.

Costs of Compliance

We estimate that this proposed AD affects 6,883 airplanes of U.S registry.

We estimate the following costs to comply with this proposed AD:

Estimated Costs
Action | Labor cost | Parts cost | Cost per product | Cost on U.S. operators
Fabricate and install placards | 1 work-hour × $85 per hour = $85 | $1 | $86 | $591,938

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Cessna Aircraft Company: Docket No. FAA-2011-0562; Directorate Identifier 2011-CE-015-AD.

Comments Due Date

(a) We must receive comments by July 18, 2011.

Affected ADs

(b) None.

Applicability

(c) This AD applies to Cessna Aircraft Company 310, 320, 340, 401, 402, 411, 414, and 421 airplanes identified in Cessna Aircraft Company Service Bulletin MEB97-4, dated March 24, 1997, certificated in any category.

Subject

(d) Joint Aircraft System Component (JASC)/Air Transport Association (ATA) of America Code: 11, Placards and Markings.

Unsafe Condition

(e) This AD was prompted by an investigation of recent and historical icing-related accidents and incidents for the products listed above. We are issuing this AD to prohibit flight into known icing conditions as well as increase the approach speed in case of an inadvertent encounter with icing. This condition, if not corrected, could result in unusual flight characteristics that could lead to loss of control after flight into known icing conditions or an inadvertent encounter with icing conditions. Based on the data, an example of the unusual flight characteristics seen in many of the accidents is high sink speeds that resulted in a hard landing.

Compliance

(f) Comply with this AD within the compliance times specified, unless already done.

Table 1—Actions, Compliance, and Procedures
Actions | Compliance | Procedures
(1) For all airplanes: Install placard Cessna part number (P/N) DP0500-13 or fabricate and install a placard that states: “This aircraft is prohibited from flight into known icing conditions.” | Within 100 hours time-in-service (TIS) after the effective date of this AD or within 3 calendar months after the effective date of this AD, whichever occurs first. | (i) If installing the placard Cessna P/N DP0500-13, obtain the placard following Cessna Aircraft Company Service Bulletin MEB97-4, dated March 24, 1997. (ii) If fabricating the placard, fabricate the placard using ⅛-inch black lettering on a white background.
|  | (iii) The placards must be installed by a properly certificated aircraft mechanic on the instrument panel in clear view of the pilot.
(2) For all airplanes: (A) If Airspeed Indicator Reads in MPH. Fabricate and install a placard that states: “For inadvertent encounters with icing conditions, increase published speed on approach 17 mph.” (B) If Airspeed Indicator Reads in Knots. Fabricate and install a placard that states: “For inadvertent encounters with icing conditions, increase published speed on approach 15 KIAS.” | Within 100 hours TIS after the effective date of this AD or within 3 calendar months after the effective date of this AD, whichever occurs first. | (i) Fabricate the placard using black lettering at least ⅛-inch on a white background. (ii) The placards must be installed by a properly certificated aircraft mechanic on the instrument panel as close as practical to the airspeed indicator in clear view of the pilot.
(3) For all airplanes: After both placards required by paragraphs (f)(1) and (f)(2)(A) or (f)(2)(B) of this AD are installed, make an entry into the aircraft logbook to record compliance with this AD. | Within 100 hours TIS after the effective date of this AD or within 3 calendar months after the effective date of this AD, whichever occurs first. | Not Applicable.

Special Flight Permit

(g) Special flight permits are permitted with the following limitation: Flight into known icing is prohibited.

Alternative Methods of Compliance (AMOCs)

(h)(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

Related Information

(i) For more information about this AD, contact Jason Brys, Flight Test Engineer, Wichita ACO, 1801 S. Airport Road, Room 100, Wichita, Kansas 67209; telephone: (316) 946-4100; fax: (316) 946-4107.

(j) For service information identified in this AD, contact Cessna Aircraft Company, Product Support, P.O. Box 7706, Wichita, KS 67277; telephone: (316) 517-6000; fax: (316) 517-8500; Internet: http://www.cessna.com. You may review copies of the referenced service information at the FAA, Small Airplane Directorate, 901 Locust, Kansas City, MO 64106. For information on the availability of this material at the FAA, call (816) 329-4148.

Issued in Kansas City, Missouri, on May 27, 2011.
Earl Lawrence,
Manager, Small Airplane Directorate, Aircraft Certification Service.

[FR Doc. 2011-13766 Filed 6-2-11; 8:45 am]

BILLING CODE 4910-13-P